FEDERAL COMMUNICATIONS COMMISSION

Notice of Public Information Collection(s) Being Reviewed by the Federal Communications Commission

June 13, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 30, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0626.

Title: Regulatory Treatment of Mobile Services.

Form No.: N/A.

Type of Review: Revision of a currently approved collection.

Respondents: Business or other for-profit.

Number of Respondents: 100 respondents; 540 responses.

Estimated Time Per Response: .50 hours to 2 hours.

Frequency of Response: On occasion and annual reporting requirement, and recordkeeping requirement.

Total Annual Burden: 5,825 hours.

Total Annual Cost: N/A.

Needs and Uses: The Commission released a Report and Order (63 FR 68904) which consolidated, revised, and streamlined the Commission's rules governing license application procedures for radio services licensed by the Wireless Telecommunications Bureau (WTB). This Report and Order also adopted new consolidated application forms which enable all wireless licensees and applicants to file applications electronically using the Universal Licensing System (ULS). (The individual application forms have separate OMB approval.) The actions in this proceeding eliminated a large number of unnecessary rules and duplicative forms. The information requested provides the Commission with technical, operational and licensing data for private mobile radio service licensees that have been reclassified as commercial mobile radio service providers. This information is necessary to ensure that licensees comply with the Commission's technical, operational and licensing rules.

Federal Communications Commission.
Magalie Roman Salas,
Secretary.

[FR Doc. 01-16240 Filed 6-27-01; 8:45 am]

BILLING CODE 6712-01-P